DEPARTMENT OF AGRICULTURE

Forest Service

Eastern Arizona Counties Resource Advisory Committee

AGENCY: Forest Service, USDA.

ACTION: Notice of meeting.

SUMMARY: The Eastern Arizona Counties Resource Advisory Committee will meet in Show Low, Arizona. The purpose of the meeting is to review organizational processes, operating guidelines, and legal requirements of Resource Advisory Committee members in accordance with Public Law 110-343 (the Secure Rural Schools and Community Self Determination Act).

DATES: The meeting will be held August 24, 2009 starting at 1 p.m.

ADDRESSES: The meeting will be held in the conference room at the Holiday Inn Express, 151 West Deuce of Clubs, Show Low, Arizona 85901. Send written comments to Robert Dyson, Eastern Arizona Counties Resource Advisory Committee, c/o Forest Service, USDA, P.O. Box 640, Springerville, Arizona 85938 or electronically to rdyson@fs.fed.us.

FOR FURTHER INFORMATION CONTACT: Robert Dyson, Public Affairs Officer, Apache-Sitgreaves National Forests, (928)333-4301.

SUPPLEMENTARY INFORMATION: The meeting is open to the public. This is an administrative and organizational meeting only and no project proposals will be reviewed. Committee discussion is limited to Forest Service staff and Committee members. However, persons who wish to bring Public Law 110-343 related matters to the attention of the Committee may file written statements with the Committee staff before or after the meeting. Opportunity for public input will be provided.

Dated: August 6, 2009.
Chris Knopp,
Forest Supervisor, Apache-Sitgreaves National Forests.

[FR Doc. E9-19287 Filed 8-12-09; 8:45 am]

BILLING CODE 3410-11-M